DEPARTMENT OF TRANSPORTATION

Federal Motor Carrier Safety Administration

[Docket No. FMCSA-2023-0201]

Parts and Accessories Necessary for Safe Operation; Safe Fleet Bus and Rail Application for an Exemption

AGENCY: Federal Motor Carrier Safety Administration (FMCSA), Department of Transportation (DOT).

ACTION: Notice of final disposition; grant of exemption.

SUMMARY: The Federal Motor Carrier Safety Administration (FMCSA) announces its decision to grant a limited 5-year exemption to Safe Fleet Bus and Rail (Safe Fleet) to allow motor carriers to operate commercial motor vehicles (CMVs) with the company's “MirrorLESS” camera monitor system (CMS) installed as an alternative to the two rear-vision mirrors required by the Federal Motor Carrier Safety Regulations (FMCSRs). The Agency has determined that granting the exemption would likely achieve a level of safety equivalent to or greater than the level of safety provided by the regulation.

DATES: This exemption is effective July 30, 2024 and ending July 25, 2029.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

Docket: For access to the docket to read background documents or comments submitted in response to the notice requesting public comments on the exemption application, go to www.regulations.gov at any time or visit the ground level of the West Building, 1200 New Jersey Avenue SE, Washington, DC, between 9 a.m. and 5 p.m., ET, Monday through Friday, except Federal holidays. To be sure someone is there to help you, please call (202) 366-9317 or (202) 366-9826 before visiting Docket Operations. The on-line Federal document management system is available 24 hours each day, 365 days each year. The docket number is listed at the beginning of this notice.

I. Background

FMCSA has authority under 49 U.S.C. 31136(e) and 31315(b) to grant exemptions from certain parts of the FMCSRs. FMCSA must publish a notice of each exemption request in the Federal Register (49 CFR 381.315(a)). The Agency must provide the public an opportunity to inspect the information relevant to the application, including the applicant's safety analysis. The Agency must also provide an opportunity for public comment on the request.

The Agency reviews safety analyses and public comments submitted and determines whether granting the exemption would likely achieve a level of safety equivalent to, or greater than, the level that would be achieved by the current regulation (49 CFR 381.305(a)). The decision of the Agency must be published in the Federal Register (49 CFR 381.315(b)). If granted, the notice will identify the regulatory provision(s) from which the applicant will be exempt, the effective period, and all terms and conditions of the exemption (49 CFR 381.315(c)(1)). If the exemption is denied, the notice will explain the reason for the denial (49 CFR 381.315(c)(2)). The exemption may be renewed (49 CFR 381.300(b)).

II. Safe Fleet's Application for Exemption

Safe Fleet applied for an exemption from 49 CFR 393.80(a) to allow motor carriers to operate CMVs equipped with the company's MirrorLESS CMS installed as an alternative to the two rear-vision mirrors required by the FMCSRs. A copy of the application is included in the docket referenced at the beginning of this notice.

Section 393.80(a) of the FMCSRs requires that each bus, truck, and truck-tractor be equipped with two rear-vision mirrors, one at each side. The mirrors must be positioned to reflect to the driver a view of the highway to the rear and the area along both sides of the CMV. Section 393.80(a) cross-references the National Highway Traffic Safety Administration's (NHTSA) standards for mirrors on motor vehicles (49 CFR 571.111, Federal Motor Vehicle Safety Standard [FMVSS] No. 111, “Rear Visibility”). Paragraph S7.1 of FMVSS No. 111 provides requirements for mirrors on multipurpose passenger vehicles and trucks with a gross vehicle weight rating (GVWR) greater than 4,536 kg and less than 11,340 kg and each bus, other than a school bus, with a GVWR of more than 4,536 kg. Paragraph S8.1 provides requirements for mirrors on multipurpose passenger vehicles and trucks with a GVWR of 11,340 kg or more.

The Safe Fleet CMS consists of three cameras, each with a specific field of view (FOV), firmly mounted close to the vehicle's drip rail location i.e., a metal or rubber strip installed along the top edge of the vehicle's doors, enclosed in an aerodynamic package that provides environmental protection for the cameras. Each camera presents a clear image to the driver by means of an internal monitor firmly mounted to the left and right A-pillar of the CMV, i.e., the structural member between the windshield and door of the cab. The installation of the monitors on the A-pillars creates no additional visual obstruction, while eliminating the substantial blind spots created by conventional mirrors. Safe Fleet states that its MirrorLESS CMS meets and/or exceeds the visibility requirements provided in FMVSS No. 111 based on the following factors:

• Cameras are firmly mounted to the exterior body structure to ensure vibration does not adversely affect the field of vision.

• The left and right video channels are processed independently so that failure of one does not impact operation of the other.

• The system reduces glare from ambient light, keeping the screen clear and visible during high light operations.

• The system provides enhanced vision at night or in low light conditions, with the cameras automatically adjusting along with the monitors to provide enhanced vision over traditional mirrors.

• The system is equipped with a built-in heater, air nozzle, and hydrophobic lens, preventing the accumulation of ice, snow, and rain, ensuring the driver maintains unobstructed views.

• FOV improvement of approximately 25% compared to standard ISO Class II & Class IV mirrors.

In addition, Safe Fleet stated that the Agency's reasoning supporting the grant of previous exemptions is equally applicable to the Safe Fleet's MirrorLESS CMS.

Safe Fleet believes that mounting the system as described would maintain a level of safety that is equivalent to, or greater than, the level of safety achieved without the exemption.

III. Summary of Comments

FMCSA published a notice of the application in the Federal Register on November 16, 2023, requesting public comment (88 FR 78809). The Agency received comments from two individuals, one opposing the application and one supporting it, subject to conditions.

The commenter who opposed the exemption generally discourages the use of cameras to replace mirrors. The other commenter suggested that the cameras be used in conjunction with standard rearview mirrors, rather than replacing them, due to concerns that an unsafe operating condition would exist in the event of a camera failure.

Separate, but related, FMCSA has received numerous comments in support of other, similar camera-based mirror system exemptions, such as in Stoneridge, Inc. “MirrorEye Camera Monitor System” (84 FR 5557, February 21, 2019); Vision Systems North America “SmartVision System” (85 FR 2486, January 15, 2020); Robert Bosch, LLC and Mekra Lang North America, LLC (Bosch) “Digital Mirror System” (85 FR 58106, September 17, 2020); and Rosco Vision, Inc. “Commercial Vehicle Digital Camera Monitor System” (87 FR 73386, December 4, 2022). Seventeen motor carriers, associations, and individuals supported the Stoneridge application, specifically noting the following benefits: (1) superior total FOV around a CMV, including reduction/elimination of blind spots (2) increased visibility when driving at night and during inclement weather, (3) enhanced vehicle maneuverability in backing, turning, and lane changes through use of trailer scanning, (4) and reduced driver fatigue.

Vision Systems North America's application was supported by 5 motor carriers, associations, and individuals. These commenters specifically noted the following benefits of the camera-based mirror system proposed; (1) improved FOV around a CMV, including reduction/elimination glare and blind spots (2) increased visibility when driving at night and during inclement weather, and (3) reduced driver fatigue.

The American Bus Association (ABA) commented in support of the Bosch Digital Mirror System. The ABA noted that the Bosch system provided the following visibility benefits: (1) anti-glare, (2) improved visibility at night and during adverse weather conditions, and (3) elimination of blind spots by providing a broader field of vision around the vehicle.

In addition to the positive comments received relating to other CMS systems, the Agency has not received any reports of accidents or other safety concerns relating to the previously granted CMS exemption applications.

IV. FMCSA Decision Granting Exemption

FMCSA evaluated Safe Fleet's application for exemption and the comments received. For the reasons discussed below, FMCSA is granting the exemption to allow motor carriers to install and operate CMVs with the company's MirrorLESS CMS as an alternative to the two rear-vision mirrors required by the FMCSRs. FMCSA believes that the MirrorLESS CMS is likely to achieve a level of safety equivalent to or greater than the level of safety achieved by the regulation.

A. Equivalent Level of Safety Analysis

Section 393.80 cross references FMVSS No. 111 which requires CMVs with a GVWR of 11,340 kg (25,000 pounds) or more to be equipped with a rearview mirror size of unit magnification of no less than 323 cm² (50 in²) on each side of the vehicle. In its comments to a 2019 NHTSA Advance Notice of Proposed Rulemaking on rear visibility, the Engine Manufacturers Association ¹ (EMA) noted that manufacturers are equipping CMVs with mirrors that are more than twice the minimum size required for each side of the vehicle, as well as adding convex mirrors to provide the driver a still greater FOV. The manufacturers install these larger, less aerodynamic mirrors to provide the driver the enhanced visibility that is crucial to the safe operation of a large truck. Similarly, CMS like Safe Fleet's MirrorLESS CMS are capable of providing an enhanced FOV that exceeds the requirements of FMVSS No. 111 and the current rear-vision mirrors installed on CMVs.

¹ Engine Manufacturers Association (EMA) comments to NHTSA ANPRM Federal Motor Vehicle Safety Standard No. 111, Rear Visibility (84 FR 54533, October 10, 2019), https://www.regulations.gov/comment/NHTSA-2018-0021-0493.

FMCSA notes that CMS are authorized for use in a number of European countries as a legal alternative to the traditional rear-vision mirrors under the requirements of United Nations Economic Commission for Europe (UNECE) R46 which specifies minimum safety, ergonomic, and performance requirements for CMS in place of mandatory inside and outside rearview mirrors for road vehicles. This regulation references ISO (International Organization for Standardization) standard 16505 Rev 2019 which addresses CMS definitions and required performance for use in road vehicles. The specifications for CMS systems in ISO 16505 exceed the FOV requirements in FMVSS No. 111.

FMCSA has reviewed Safe Fleet's CMS submission and has determined that its MirrorLESS system exceeds both the FOV required by FMVSS No. 111 and the rear-vision mirrors currently installed by manufacturers.

FMCSA acknowledges the concerns of the two individual commenters regarding potential system failure of the MirrorLESS CMS. FMCSA notes that the MirrorLESS CMS is designed with redundancy in the event of camera failure, such that if one of the cameras within the camera assembly were to fail, the system would automatically adjust the view of the interior monitor for that side to a full screen view of the remaining working camera. Furthermore, if the entire camera assembly on one side were to fail, the functionality of the other side would remain unaffected.

In the event of camera or monitor failure, the CMV would not be subject to an out-of-service (OOS) order because it is not a critical inspection item under CVSA's OOS criteria,² in the same way conventional mirrors do not trigger an OOS order if cracked or damaged while in operation. Instead, the CMV would be subject to the requirements of 49 CFR 396.11 which would require a driver to complete a driver vehicle inspection report at the end of the workday and the motor carrier to correct any identified safety defects before permitting or requiring a driver to operate the CMV again.

² The CVSA OOSC states that any motor vehicle which by reason of its mechanical condition or loading that would be likely to cause an accident or breakdown is considered “Out-of-Service.” Violations, other than Out-of-Service conditions, detected during the inspection process will not preclude the completion of the current trip or dispatch. However, such violations must be corrected or repaired prior to redispatch. See https://www.cvsa.org/inspections/out-of-service-criteria/.

Additionally, under 49 CFR 392.7(a), CMV drivers must satisfy themselves that a vehicle is in safe condition before operating the vehicle. This obligation would include ensuring that both rear-vision mirrors (or in this case, all components of the MirrorLESS CMS including all external cameras and both internal monitors) are in good working order. CMVs are also subject to the periodic inspection requirements under 49 CFR 396.17, which would include an inspection of the MirrorLESS CMS. To further ensure that the MirrorLESS CMS system is properly maintained, the terms and conditions of the exemption specify that motor carriers and drivers operating CMVs under this exemption must inspect the MirrorLESS CMS before operation of the CMV.

FMCSA believes that the MirrorLESS CMS is likely to achieve a level of safety equivalent to or greater than the level of safety achieved by standard rear-view mirrors because it provides a greater FOV, eliminates the blind spots created by mirrors on both sides of the vehicle, provides a monitor with low light sensitivity feature, and includes a camera heating system, all of which exceed the current requirements of 49 CFR 393.80. The FMCSRs impose several operational controls that will help ensure that the MirrorLESS CMS is functioning properly. Before driving a vehicle, a driver must be satisfied that the vehicle is in safe operating condition, and that any system failures reported have been corrected prior to vehicle re-dispatch. Additionally, the driver must complete a driver vehicle inspection report at the completion of the workday, noting any system defects or failures that occurred during operation of the vehicle.

B. Duration of Exemption

The Agency grants the exemption for a 5-year period, beginning July 30, 2024 and ending July 25, 2029 unless rescinded earlier by FMCSA. During the exemption period, motor carriers operating CMVs may install and utilize the Safe Fleet's MirrorLESS CMS in lieu of the two rear-vision mirrors required by section 393.80 of the FMCSRs. The Agency encourages drivers operating CMVs under this exemption to carry a copy of the exemption in the vehicle.

C. Conditions of Exemption

1. This exemption is limited to the Safe Fleet's MirrorLESS CMS installed on CMVs and does not apply to any other camera-based mirror replacement system/technology.

2. Drivers operating CMVs under this exemption must inspect the MirrorLESS CMS each time before operating the CMV and ensure that it is in proper working order.

3. Drivers operating CMVs under this exemption must inspect the equipment at the end of each day and note any defects in the equipment. The motor carrier must repair any defects noted by the driver before it operates the CMV.

4. The motor carrier must, in addition to existing periodic inspections required by 49 CFR 396.17, periodically inspect the MirrorLESS CMS.

D. Preemption

In accordance with 49 U.S.C. 31315(d), as implemented by 49 CFR 381.600, during the period this exemption is in effect, no State shall enforce any law or regulation applicable to interstate commerce that conflicts with or is inconsistent with this exemption with respect to a person operating under the exemption. States may, but are not required to, adopt the same exemption with respect to operations in intrastate commerce.

E. Termination

FMCSA does not believe the motor carrier, the drivers, and CMVs covered by the exemption will experience any deterioration of their safety record. However, should this occur, FMCSA will take all steps necessary to protect the public interest, including revocation of the exemption without prior notice. The exemption will be rescinded if: (1) motor carriers and/or CMV drivers fail to comply with the terms and conditions of the exemption; (2) the exemption has resulted in a lower level of safety than maintained before it was granted; or (3) continuation of the exemption would not be consistent with the goals and objectives of 49 U.S.C. 31136(e) or 31315(b).

Interested parties possessing information that would demonstrate that motor carriers operating CMVs utilizing the Safe Fleet's MirrorLESS CMS installed as an alternative to two rear-vision mirrors are not achieving the requisite statutory level of safety should immediately notify FMCSA by email at MCPSV@DOT.GOV. The Agency will evaluate any such information and, if safety is being compromised or if the continuation of the exemption is not consistent with 49 U.S.C. 31136(e) and 31315(b), will take immediate steps to revoke the exemption.

Sue Lawless,
Acting Deputy Administrator.

[FR Doc. 2024-16340 Filed 7-24-24; 8:45 am]

BILLING CODE 4910-EX-P